DEPARTMENT OF VETERANS AFFAIRS

[OMB Control No. 2900-0905]

Agency Information Collection Activity: Legal Services for Homeless Veterans and Veterans At-Risk for Homelessness (LSV) Grant Program

AGENCY: Veterans Health Administration, Department of Veterans Affairs.

ACTION: Notice.

SUMMARY: Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before January 9, 2023.

ADDRESSES: Submit written comments on the collection of information through Federal Docket Management System (FDMS) at www.Regulations.gov or to Janel Keyes, Office of Regulations, Appeals, and Policy (10BRAP), Department of Veterans Affairs, 810 Vermont Avenue NW, Washington, DC 20420 or email to Janel.Keyes@va.gov. Please refer to “OMB Control No. 2900-0905” in any correspondence. During the comment period, comments may be viewed online through FDMS.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0905” in any correspondence.

SUPPLEMENTARY INFORMATION: Under the PRA of 1995, Federal agencies must obtain approval from the Office of Management and Budget (OMB) for each collection of information they conduct or sponsor. This request for comment is being made pursuant to section 3506(c)(2)(A) of the PRA.

With respect to the following collection of information, VHA invites comments on: (1) whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Legal Services for Homeless Veterans and Veterans At-Risk for Homelessness (LSV) Grant Program, VA Forms 10-318a-b and 10-319a-b.

OMB Control Number: 2900-0905.

Type of Review: Extension of a currently approved collection.

Abstract: Public Law 116-315, Johnny Isakson and David P. Roe, M.D. Veterans Health Care and Benefits Improvement Act of 2020, provided authority for VA's Homeless Programs Office (HPO) to grant funding to eligible organizations that will coordinate or provide legal services to Veterans who are homeless or at-risk of homelessness. Several sections, including section 4202, of the Act were created to better serve Veterans who are struggling with homelessness or housing insecurity. Requests for funding by applicants are likely to exceed the amount of funding appropriated to the VA for these grants. The VA must collect data to prioritize applicants for funding. The legal authority for this data collection is found under 38 U.S.C., part I, chapter 5, section 527, which authorizes the collection of data that will allow measurement and evaluation of the Department of Veterans Affairs Programs, the goal of which is to improve health care and services for Veterans. This information collection includes grant eligibility criteria, application requirements, scoring criteria, constraints on the allocation and use of the funds, and other requirements necessary to implement this grant program.

HPO will use information collected to determine if an applicant is eligible to receive grant funding. HPO also will obtain information necessary to ensure that federal funds are awarded to applicants who are financially stable and have the capacity to conduct the program for which a grant is awarded. HPO could not perform its statutory obligation to administer the program if this data were not collected.

The following forms will be used to collect data for the LSV Grant Program:

VA Form 10-318a—Application for Legal Services Grant: This form will be used to collect data from eligible entities that are applying to be Legal Services for Homeless and At-Risk Veterans grant recipients. The items required in this application are used to determine if an applicant can provide legal services to Veterans. The scoring criteria is at VA's discretion and is not mandated by the statute.

VA Form 10-318b—Renewal Application for Legal Services Grant: This form will be used to collect data from existing grantees that were previously awarded Legal Services for Homeless and At-Risk Veterans grants.

VA Form 10-319a—Quarterly Grantee Performance Reports for Legal Services Grant: HPO will collect this information to ensure that grantees comply with program requirements described in 38 CFR part 79 and their grant agreements.

VA Form 10-319b—Program or Budget Change and Corrective Action Plan for Legal Services Grant: This information is needed for a grantee to inform HPO of significant changes that will alter their approved grant program. HPO may require grantees to initiate and develop corrective action plans, and submit to VA for approval.

Total Annual Number of Responses = 485.

Total Annual Time Burden = 4,070 hours.

VA Form 10-318a—Application for Legal Services Grant:

Affected Public: Private sector.

Estimated Annual Burden: 2,400 hours.

Estimated Average Burden per Respondent: 24 hours.

Frequency of Response: Once annually.

Estimated Number of Respondents: 100.

VA Form 10-318b—Renewal Application for Legal Services Grant:

Affected Public: Private sector.

Estimated Annual Burden: 1,500 hours.

Estimated Average Burden per Respondent: 20 hours.

Frequency of Response: Once annually.

Estimated Number of Respondents: 75.

VA Form 10-319a—Quarterly Grantee Performance Report:

Affected Public: Private sector.

Estimated Annual Burden: 150 hours.

Estimated Average Burden per Respondent: 30 minutes.

Frequency of Response: Four times per year.

Estimated Number of Respondents: 75.

VA Form 10-319b—Program or Budget Change and Corrective Action Plan (CAP):

Affected Public: Private Sector.

Estimated Annual Burden: 20 hours.

Estimated Average Burden per Respondent: 2 hours.

Frequency of Response: Once annually.

Estimated Number of Respondents: 10.

By direction of the Secretary.
Maribel Aponte,
VA PRA Clearance Officer, Office of Enterprise and Integration/Data Governance Analytics, Department of Veterans Affairs.

[FR Doc. 2022-24352 Filed 11-7-22; 8:45 am]

BILLING CODE 8320-01-P